DEPARTMENT OF TRANSPORTATION

Federal Aviation Administration

[Docket No. FAA-2019-0756]

Agency Information Collection Activities: Requests for Comments; Clearance of a Renewed Approval of Information Collection: Aging Aircraft Program (Widespread Fatigue Damage)

AGENCY: Federal Aviation Administration (FAA), DOT.

ACTION: Notice and request for comments.

SUMMARY: In accordance with the Paperwork Reduction Act of 1995, the FAA invites public comments about our intention to request Office of Management and Budget (OMB) approval to renew an information collection. The “Aging Aircraft Program (Widespread Fatigue Damage)” final rule amended FAA regulations pertaining to certification and operation of transport category airplanes to preclude widespread fatigue damage in those airplanes.

DATES: Written comments should be submitted by December 20, 2019.

ADDRESSES: Please send written comments:

By Electronic Docket: www.regulations.gov (Enter docket number into search field).

By Mail: Walter M. Sippel, Federal Aviation Administration, Transport Standards Branch, 2200 South 216th Street, Des Moines, WA 98198.

By Fax: 206-231-3216.

FOR FURTHER INFORMATION CONTACT: Walter M. Sippel by email at: Walter.Sippel@faa.gov; phone: 206-231-3216.

SUPPLEMENTARY INFORMATION:

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0743.

Title: Aging Aircraft Program (Widespread Fatigue Damage).

Form Numbers: There are no FAA forms associated with this collection.

Type of Review: Renewal of an information collection.

Background: FAA regulations require that type certificate and supplemental type certificate holders use documentation to demonstrate to their FAA Oversight Office that they have complied by establishing a limit of validity of the engineering data that supports the structural maintenance program (hereafter referred to as LOV) for certain airplane models. Operators will submit the LOV to their Principal Maintenance Inspectors to demonstrate that they are compliant.

Respondents: Approximately 30 operators.

Frequency: Information is collected on occasion.

Estimated Average Burden per Response: 20 hours.

Estimated Total Annual Burden: 167 hours.

Issued in Washington, DC, on October 16, 2019.
Joy Wolf,
Directives & Forms Management Officer (DMO/FMO), Aircraft Certification Service.

[FR Doc. 2019-22878 Filed 10-18-19; 8:45 am]

BILLING CODE 4910-13-P